DEPARTMENT OF TRANSPORTATION

Federal Aviation Administration

14 CFR Part 39

[Docket No. 2000-NM-05-AD; Amendment 39-11519; AD 2000-01-51]

RIN 2120-AA64

Airworthiness Directives; CL-604 Variant of Bombardier Model Canadair CL-600-2B16 Series Airplanes Modified in Accordance With Supplemental Type Certificate SA8060NM-D, SA8072NM-D, or SA8086NM-D

AGENCY: Federal Aviation Administration, DOT.

ACTION: Final rule; request for comments.

SUMMARY: This document publishes in the Federal Register an amendment adopting airworthiness directive (AD) 2000-01-51 that was sent previously by individual notices to all known U.S. owners and operators of Model CL-604 variant of Bombardier Model Canadair CL-600-2B16 series airplanes modified in accordance with Supplemental Type Certificate SA8060NM-D, SA8072NM-D, or SA8086NM-D. This AD requires that the fuel service panel maintenance light be disconnected. This action is prompted by a report indicating that an electrical spark was noted when the fuel cap chain contacted the maintenance light housing of the fuel service panel. The actions specified by this AD are intended to prevent electrical sparks from a grounded object from coming into contact with the maintenance light housing of the fuel service panel, which could result in a fuel fire due to the close proximity of the fuel service panel to the fuel port.

EFFECTIVE DATE: January 26, 2000, to all persons except those persons to whom it was made immediately effective by emergency AD 2000-01-51, issued January 7, 2000, which contained the requirements of this amendment.

Comments for inclusion in the Rules Docket must be received on or before March 21, 2000.

ADDRESSES: Submit comments in triplicate to the Federal Aviation Administration (FAA), Transport Airplane Directorate, ANM-114, Attention: Rules Docket No. 2000-NM-05-AD, 1601 Lind Avenue, SW., Renton, Washington 98055-4056.

Information pertaining to this docket may be examined at the FAA, Transport Airplane Directorate, 1601 Lind Avenue, SW., Renton, Washington; or at the FAA, Transport Airplane Directorate, Los Angeles Aircraft Certification Office, 3960 Paramount Boulevard, Lakewood, California.

FOR FURTHER INFORMATION CONTACT: Abby Malmir, Aerospace Engineer, Systems and Equipment Branch, ANM-130L, FAA, Transport Airplane Directorate, Los Angeles Aircraft Certification Office, 3960 Paramount Boulevard, Lakewood, California 90712-4137; telephone (562) 627-5351; fax (562) 627-5210.

SUPPLEMENTARY INFORMATION: On January 7, 2000, the FAA issued emergency AD 2000-01-51, which is applicable to the Model CL-604 variant of Bombardier Model Canadair CL-600-2B16 series airplanes modified in accordance with Supplemental Type Certificate SA8060NM-D, SA8072NM-D, or SA8086NM-D.

That action was prompted by a report indicating that an electrical spark was noted when the fuel cap chain contacted the maintenance light housing of the fuel service panel on a CL-604 variant of a Bombardier Model Canadair CL-600-2B16 series airplane. Investigation revealed that the power and ground wires to the fuel service panel light assembly were reversed. Electrical sparks from a grounded object may come into contact with the maintenance light housing of the fuel service panel, and could result in a fuel fire due to the close proximity of the fuel service panel to the fuel port.

Explanation of Requirements of the Rule

Since the unsafe condition described is likely to exist or develop on other airplanes of the same type design, the FAA issued emergency AD 2000-01-51 to prevent electrical sparks from a grounded object from coming into contact with the maintenance light housing of the fuel service panel, which could result in a fuel fire due to the close proximity of the fuel service panel to the fuel port. The AD requires that the fuel service panel maintenance light be disconnected.

Operators should note that this airworthiness directive applies only to the CL-604 variant of Bombardier Model Canadair CL-600-2B16 series airplanes.

Interim Action

This is considered to be interim action until final action is identified, at which time the FAA may consider further rulemaking.

Since it was found that immediate corrective action was required, notice and opportunity for prior public comment thereon were impracticable and contrary to the public interest, and good cause existed to make the AD effective immediately by individual notices issued on January 7, 2000, to all known U.S. owners and operators of the CL-604 variant of Bombardier Model Canadair CL-600-2B16 series airplanes modified in accordance with Supplemental Type Certificate SA8060NM-D, SA8072NM-D, or SA8086NM-D. These conditions still exist, and the AD is hereby published in the Federal Register as an amendment to section 39.13 of the Federal Aviation Regulations (14 CFR 39.13) to make it effective to all persons.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-05-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-01-51 Bombardier: Amendment 39-11519. Docket 2000-NM-05-AD.

Applicability: CL-604 variant of Canadair Model CL-600-2B16 series airplanes modified in accordance with Supplemental Type Certificate SA8060NM-D, SA8072NM-D, or SA8086NM-D; certificated in any category.

Note 1: This AD applies to each airplane identified in the preceding applicability provision, regardless of whether it has been modified, altered, or repaired in the area subject to the requirements of this AD. For airplanes that have been otherwise modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent a fuel fire due to electrical sparks contacting the maintenance light housing of the fuel service panel, accomplish the following:

(a) Within 48 hours after the effective date of this AD, perform the actions specified in paragraphs (a)(1), (a)(2), (a)(3), (a)(4), (a)(5), (a)(6), and (a)(7) of this AD.

(1) Open and lock-out the circuit breaker CB5-B8 located in the aft equipment bay at STA.645L on the JB5 panel.

(2) Open the refuel/defuel door located on the right side of the fuselage at the wing root. Remove the maintenance light receptacle by removing the four screws holding the receptacle to the fairing.

(3) Pull the light receptacle away from the fairing revealing the two wire leads attached to the receptacle.

(4) Disconnect the wires by removing the two screws that attach the wire leads to the light receptacle.

(5) Cap and stow the wires to prevent contact with metal objects within the fairing.

(6) Re-install the light receptacle in the fairing.

(7) Close circuit breaker CB5-B8.

Alternative Methods of Compliance

(b) An alternative method of compliance or adjustment of the compliance time that provides an acceptable level of safety may be used if approved by the Manager, Los Angeles Certification Office (ACO), FAA, Transport Airplane Directorate. Operators shall submit their requests through an appropriate FAA Principal Maintenance Inspector, who may add comments and then send it to the Manager, Los Angeles ACO.

Note 2: Information concerning the existence of approved alternative methods of compliance with this AD, if any, may be obtained from the Los Angeles ACO.

Special Flight Permits

(c) Special flight permits may be issued in accordance with sections 21.197 and 21.199 of the Federal Aviation Regulations (14 CFR 21.197 and 21.199) to operate the airplane to a location where the requirements of this AD can be accomplished.

(d) This amendment becomes effective on January 26, 2000, to all persons except those persons to whom it was made immediately effective by emergency AD 2000-01-51, issued on January 7, 2000, which contained the requirements of this amendment.

Issued in Renton, Washington, on January 13, 2000.

Donald L. Riggin,
Acting Manager, Transport Airplane Directorate, Aircraft Certification Service.

[FR Doc. 00-1367 Filed 1-20-00; 8:45 am]

BILLING CODE 4910-13-U